FEDERAL ELECTION COMMISSION

[NOTICE 2020-01]

Price Index Adjustments for Expenditure Limitations and Lobbyist Bundling Disclosure Threshold

AGENCY: Federal Election Commission.

ACTION: Notice of adjustments to expenditure limitations and lobbyist bundling disclosure threshold.

SUMMARY: As mandated by provisions of the Federal Election Campaign Act (the Act), the Federal Election Commission (the Commission) is adjusting certain expenditure limitations and the lobbyist bundling disclosure threshold set forth in the Act, to index the amounts for inflation. Additional details appear in the supplemental information that follows.

DATES: The new limits apply beginning on January 1, 2020.

FOR FURTHER INFORMATION CONTACT: Ms. Elizabeth S. Kurland, Information Division, 1050 First Street NE, Washington, DC 20463; (202) 694-1100 or (800) 424-9530.

SUPPLEMENTARY INFORMATION: Under the Federal Election Campaign Act, 52 U.S.C. 30101-45, coordinated party expenditure limits (52 U.S.C. 30116(d)(2)-(3)) and the disclosure threshold for contributions bundled by lobbyists (52 U.S.C. 30104(i)(3)(A)) are adjusted annually to reflect changes in the consumer price index. See 52 U.S.C. 30104(i)(3)(B), 30116(c); 11 CFR 109.32(a)(2), (b)(3), 110.17(a), (f). The Commission is publishing this notice to announce the adjusted limits and disclosure threshold for 2020.

Coordinated Party Expenditure Limits for 2020

Under 52 U.S.C. 30116(c), the Commission must adjust the expenditure limitations established by 52 U.S.C. 30116(d) (the limits on expenditures by national party committees, state party committees, or their subordinate committees in connection with the general election campaign of candidates for federal office) annually to account for inflation. This expenditure limitation is increased by the percent difference between the price index, as certified to the Commission by the Secretary of Labor, for the 12 months preceding the beginning of the calendar year and the price index for the base period (calendar year 1974). 52 U.S.C. 30116(c).

1. Expenditure Limitation for House of Representatives in States With More Than One Congressional District

Both the national and state party committees have an expenditure limitation for each general election held to fill a seat in the House of Representatives in states with more than one congressional district. See 52 U.S.C. 30116(d)(3)(B). This limitation also applies to the District of Columbia and territories that elect individuals to the office of Delegate or Resident Commissioner.¹ Id. The formula used to calculate the expenditure limitation in such states and territories multiplies the base figure of $10,000 by the difference in the price index (5.18508), rounding to the nearest $100. See 52 U.S.C. 30116(c)(1)(B), (d)(3)(B); 11 CFR 109.32(b), 110.17. Based upon this formula, the expenditure limitation for 2020 general elections for House candidates in these states, districts, and territories is $51,900.

¹ Currently, these are Puerto Rico, American Samoa, Guam, the United States Virgin Islands and the Northern Mariana Islands. See http://www.house.gov/representatives.

2. Expenditure Limitation for Senate and for House of Representatives in States With Only One Congressional District

Both the national and state party committees have an expenditure limitation for a general election held to fill a seat in the Senate or in the House of Representatives in states with only one congressional district. See 52 U.S.C. 30116(d)(3)(A). The formula used to calculate this expenditure limitation considers not only the price index but also the voting age population (VAP) of the state. Id. The VAP figures used to calculate the expenditure limitations were certified by the U.S. Census Bureau. The VAP of each state is also published annually in the Federal Register by the U.S. Department of Commerce. 11 CFR 110.18. The general election expenditure limitation is the greater of: The base figure ($20,000) multiplied by the difference in the price index, 5.18508 (which totals $103,700); or $0.02 multiplied by the VAP of the state, multiplied by 5.18508. See 52 U.S.C. 30116(c)(1)(B), (d)(3)(A); 11 CFR 109.32(b), 110.17. Amounts are rounded to the nearest $100. 52 U.S.C. 30116(c)(1)(B)(iii); 11 CFR 109.32(b)(3), 110.17(c). The chart below provides the state-by-state breakdown of the 2020 general election expenditure limitation for Senate elections. The expenditure limitation for 2020 House elections in states with only one congressional district ² is $103,700.

² Currently, these states are: Alaska, Delaware, Montana, North Dakota, South Dakota, Vermont and Wyoming. See http://www.house.gov/representatives/.

³ This expenditure limit does not apply to the District of Columbia, Puerto Rico, American Samoa, Guam, the United States Virgin Islands, and the Northern Mariana Islands because those jurisdictions do not elect Senators. See 52 U.S.C. 30116(d)(3)(A); 11 CFR 109.32(b)(2)(i).

Senate General Election Coordinated Expenditure Limits—2020 Elections ³
State | Voting Age Population (VAP) | VAP × .02 × the price index (5.18508) | Senate expenditure limit (the greater of the amount in column 3 or $103,700)
Alabama | 3,814,879 | $395,600 | $395,600
Alaska | 551,562 | 57,200 | 103,700
Arizona | 5,638,481 | 584,700 | 584,700
Arkansas | 2,317,649 | 240,300 | 240,300
California | 30,617,582 | 3,175,100 | 3,175,100
Colorado | 4,499,217 | 466,600 | 466,600
Connecticut | 2,837,847 | 294,300 | 294,300
Delaware | 770,192 | 79,900 | 103,700
Florida | 17,247,808 | 1,788,600 | 1,788,600
Georgia | 8,113,542 | 841,400 | 841,400
Hawaii | 1,116,004 | 115,700 | 115,700
Idaho | 1,338,864 | 138,800 | 138,800
Illinois | 9,853,946 | 1,021,900 | 1,021,900
Indiana | 5,164,245 | 535,500 | 535,500
Iowa | 2,428,229 | 251,800 | 251,800
Kansas | 2,213,064 | 229,500 | 229,500
Kentucky | 3,464,802 | 359,300 | 359,300
Louisiana | 3,561,164 | 369,300 | 369,300
Maine | 1,095,370 | 113,600 | 113,600
Maryland | 4,710,993 | 488,500 | 488,500
Massachusetts | 5,539,703 | 574,500 | 574,500
Michigan | 7,842,924 | 813,300 | 813,300
Minnesota | 4,336,475 | 449,700 | 449,700
Mississippi | 2,277,566 | 236,200 | 236,200
Missouri | 4,766,843 | 494,300 | 494,300
Montana | 840,190 | 87,100 | 103,700
Nebraska | 1,458,334 | 151,200 | 151,200
Nevada | 2,387,517 | 247,600 | 247,600
New Hampshire | 1,104,458 | 114,500 | 114,500
New Jersey | 6,943,612 | 720,100 | 720,100
New Mexico | 1,620,991 | 168,100 | 168,100
New York | 15,425,262 | 1,599,600 | 1,599,600
North Carolina | 8,187,369 | 849,000 | 849,000
North Dakota | 581,891 | 60,300 | 103,700
Ohio | 9,111,081 | 944,800 | 944,800
Oklahoma | 3,004,733 | 311,600 | 311,600
Oregon | 3,351,175 | 347,500 | 347,500
Pennsylvania | 10,167,376 | 1,054,400 | 1,054,400
Rhode Island | 854,866 | 88,700 | 103,700
South Carolina | 4,037,531 | 418,700 | 418,700
South Dakota | 667,558 | 69,200 | 103,700
Tennessee | 5,319,123 | 551,600 | 551,600
Texas | 21,596,071 | 2,239,500 | 2,239,500
Utah | 2,274,774 | 235,900 | 235,900
Vermont | 509,984 | 52,900 | 103,700
Virginia | 6,674,671 | 692,200 | 692,200
Washington | 5,951,832 | 617,200 | 617,200
West Virginia | 1,432,580 | 148,600 | 148,600
Wisconsin | 4,555,837 | 472,400 | 472,400
Wyoming | 445,025 | 46,100 | 103,700

3. Expenditure Limitation for President

The national party committees have an expenditure limitation for their general election nominee for President. 52 U.S.C. 30116(d)(2). The formula used to calculate the Presidential expenditure limitation considers not only the price index but also the total VAP of the United States. Id. The VAP figure used to calculate the expenditure limitation was certified by the U.S. Census Bureau. The VAP of the United States is also published annually in the Federal Register by the U.S. Department of Commerce. 11 CFR 110.18. The formula used to calculate this expenditure limitation is $0.02 multiplied by the total VAP of the United States (255,200,373), multiplied by the difference in the price index, 5.18508. See 52 U.S.C. 30116(c)(1)(B), (d)(2); 11 CFR 109.32(a)(2), 110.17. Amounts are rounded to the nearest $100. 52 U.S.C. 30116(c)(1)(B)(iii); 11 CFR 109.32(a)(2), 110.17(c). Based upon this formula, the expenditure limitation for 2020 Presidential nominees is $26,464,700.

Limitations on Contributions by Individuals, Non-Multicandidate Committees and Certain Political Party Committees Giving to U.S. Senate Candidates for the 2019-2020 Election Cycle

For the convenience of the readers, the Commission is also republishing the contribution limitations for individuals, non-multicandidate committees and for certain political party committees giving to U.S. Senate candidates and national party committees for the 2019-2020 election cycle:

Statutory provision | Statutory amount | 2019-2020 limit
52 U.S.C. 30116(a)(1)(A) | $2,000 | $2,800
52 U.S.C. 30116(a)(1)(B) | 25,000 | 35,500
52 U.S.C. 30116(h) | 35,000 | 49,600

Lobbyist Bundling Disclosure Threshold for 2020

The Act requires certain political committees to disclose contributions bundled by lobbyists/registrants and lobbyist/registrant political action committees once the contributions exceed a specified threshold amount. 52 U.S.C. 30104(i)(1), (i)(3)(A). The Commission must adjust this threshold amount annually to account for inflation. 52 U.S.C. 30104(i)(3)(B). The disclosure threshold is increased by multiplying the $15,000 statutory disclosure threshold by 1.26815, the difference between the price index, as certified to the Commission by the Secretary of Labor, for the 12 months preceding the beginning of the calendar year and the price index for the base period (calendar year 2006). See 52 U.S.C. 30104(i)(3), 30116(c)(1)(B); 11 CFR 104.22(g). The resulting amount is rounded to the nearest multiple of $100. 52 U.S.C. 30104(i)(3)(B), 30116(c)(1)(B)(iii); 11 CFR 104.22(g)(4). Based upon this formula ($15,000 × 1.26815), the lobbyist bundling disclosure threshold for calendar year 2020 is $19,000.

Dated: February 13, 2020.
On behalf of the Commission,
Caroline C. Hunter,
Chair, Federal Election Commission.

[FR Doc. 2020-03262 Filed 2-19-20; 8:45 am]

BILLING CODE 6715-01-P